ENVIRONMENTAL PROTECTION AGENCY

[EPA-R04-OAR-2014-0728; FRL-9923-71-Region-4]

Notice of Issuance of Final Air Permits to Anadarko Petroleum Corporation

AGENCY: Environmental Protection Agency (EPA).

ACTION: Notice of final actions.

SUMMARY: This notice is to announce that the Environmental Protection Agency (EPA) issued two final Outer Continental Shelf (OCS) air quality permits numbered OCS-EPA-R4019 and OCS-EPA-R4020 to Anadarko Petroleum Corporation (Anadarko) on December 31, 2014.

ADDRESSES: The final permits, the EPA's response to public comments for these permits, and supporting information are available at http://www.epa.gov/region4/air/permits/index.htm. These materials are also available for review at the EPA Region 4 Office and upon request in writing. The EPA requests that you contact the person listed in the FOR FURTHER INFORMATION CONTACT section to schedule an inspection of these materials or to submit a written request for copies of these materials. The Regional Office's official hours of business are Monday through Friday, 8:30 a.m. to 4:30 p.m. excluding Federal holidays.

FOR FURTHER INFORMATION CONTACT: Please contact Ms. Heather Ceron, Air Permits Section Chief, Air Planning and Implementation Branch, Air, Pesticides and Toxics Management Division, Region 4, U.S. Environmental Protection Agency, 61 Forsyth Street SW., Atlanta, Georgia 30303-8960. The telephone number is (404) 562-9185. Ms. Ceron can be reached by phone at (404) 562-9185 and via electronic mail at ceron.heather@epa.gov.

SUPPLEMENTARY INFORMATION: On November 14, 2014, EPA requested public comments on the drafts of the two OCS air permits for the Anadarko (BlackHawk and BlackHornet) projects. The draft permit conditions and preliminary determination documents are the same for both projects; they simply reference different drilling rigs. During the public comment period, which ended on December 15, 2014, the EPA received a total of 7 comments from 1 commenter (Anadarko).

The EPA reviewed each comment received for the Anadarko projects and prepared a Response to Comments document. After consideration of the expressed view of all interested persons, the pertinent federal statutes and regulations, the applications and supplemental information submitted by the applicant, and additional material relevant to the applications and contained in the Administrative Records, the EPA made final determinations in accordance with 40 Code of Federal Regulations (CFR) parts 55 and 71 to issue final air permits.

The EPA must follow the administrative procedures in 40 CFR part 124 used to issue Prevention of Significant Deterioration permits when processing OCS permit applications under Part 55. 40 CFR 55.6(a)(3). The EPA must also follow the administrative procedures of 40 CFR part 71 when issuing permits to OCS sources subject to Title V requirements. 40 CFR 71.4(d). Under 40 CFR 124.19(l)(3) and 40 CFR 71.11(l)(7), notice of any final Agency action regarding a subject permit must be published in the Federal Register. Section 307(b)(1) of the Clean Air Act (CAA) provides for review of final Agency action that is locally or regionally applicable in the United States Court of Appeals for the appropriate circuit. Such a petition for review of final Agency action must be filed on or before 11:59 p.m. on the 60th day from the date of notice of such action in the Federal Register. For purposes of judicial review under the CAA, final Agency action occurs when a final permit is issued or denied by the EPA and Agency review procedures are exhausted, per 40 CFR 124.19(l)(2) and 40 CFR 71.11(l)(5).

Any person who filed comments on the Anadarko draft permits was provided the opportunity to petition the Environmental Appeals Board by January 30, 2015. No petitions were submitted for these permit. Therefore, the Anadarko permits became effective on January 31, 2015.

Dated: February 17, 2015.
Beverly H. Banister,
Director, Air, Pesticides, and Toxics Management Division, Region 4.

[FR Doc. 2015-04016 Filed 2-25-15; 8:45 am]

BILLING CODE 6560-50-P